DEPARTMENT OF AGRICULTURE

Forest Service

Nez Perce-Clearwater National Forests, Idaho; Moose Creek Project

AGENCY: Forest Service, USDA.

ACTION: Withdrawal of notice of intent to prepare environmental impact statement.

SUMMARY: The Nez Perce-Clearwater National Forests is withdrawing the Notice of Intent (NOI) to prepare an Environmental Impact Statement for the Moose Creek Project.

FOR FURTHER INFORMATION CONTACT: Questions concerning withdrawal of the NOI should be addressed to Stefani Spencer (District Ranger) at the following address: Palouse Ranger District, Nez Perce Clearwater National Forest, 1700 Highway 6, Potlatch, ID 83855, phone: 208-875-1133.

Individuals who use telecommunication devices for the deaf (TDD) may call the Federal Information Relay Service (FIRS) at 1-800-877-8339 between 8 a.m. and 8 p.m., Eastern Time, Monday through Friday.

SUPPLEMENTARY INFORMATION: The Nez Perce-Clearwater National Forests is withdrawing the Notice of Intent (NOI) to prepare an Environmental Impact Statement for the Moose Creek Project. The original NOI was published in the Federal Register on April 27, 2017 (82 FR 19350).

Dated: November 20, 2018.
Jennifer Eberlien,
Acting Associate Deputy Chief, National Forest System.

[FR Doc. 2018-26695 Filed 12-7-18; 8:45 am]

BILLING CODE 3411-15-P